DEPARTMENT OF ENERGY

Federal Energy Regulatory Commission

[Docket Nos. RM01-8-000, ER02-2001-000]

Revised Public Utility Filing Requirements; Electric Quarterly Reports; Notice of Electric Quarterly Reports Users Group Meeting

May 17, 2005.

On April 25, 2002, the Commission issued Order No. 2001, a final rule which requires public utilities to file Electric Quarterly Reports (EQR) Order 2001-C, issued December 18, 2002, instructed all public utilities to file these reports using Electric Quarterly Report Submission Software. This notice announces a working meeting for the EQR Users Group to be held Wednesday, June 22, 2005, at FERC headquarters, 888 First Street, NW., Washington, DC. The meeting will run from 10 a.m. to 4 p.m. (EST). At the workshop, Commission staff and EQR users will discuss recent changes in the EQR software, Commission efforts to improve the quality of filings, and the progress in developing EQR-appropriate reports at the ISOs. A detailed agenda will be issued in a later notice and will be provided on http://www.ferc.gov attached to the event on the calendar prior to the meeting.

Documents to be discussed at the meeting will be posted on the EQR Users Group and Workshops page on FERC.gov at http://www.ferc.gov/docs-filing/eqr/groups-workshops.asp.

All interested parties are invited to attend. There is no registration fee. For those unable to attend in person, limited access to the workshop will be available by teleconference.

Those interested in participating are asked to register on the FERC Web site at http://www.ferc.gov/whats-new/registration/eqr-06-22-form.asp. Interested parties wishing to file comments may do so under the above-captioned Docket Numbers. Those filings will be available for review at the Commission or may be viewed on the Commission's Web site at http://www.ferc.gov, using the “eLibrary” link. Enter the docket number excluding the last three digits in the docket number field to access the document. For assistance, contact FERC Online Support at FERCOnlineSupport@ferc.gov or via phone at (866) 208-3676 (toll-free). For TTY, contact (202) 502-8659.

Commission conferences are accessible under section 508 of the Rehabilitation Act of 1973. For accessibility accommodations, please send an e-mail to accessibility@ferc.gov or call toll-free 866-208-3372 (voice) or 202-208-1659 (TTY), or send a FAX to 202-208-2106 with the required accommodations.

For additional information, please contact Michelle Reaux of FERC's Office of Market Oversight & Investigations at (202) 502-6497 or by e-mail at eqr@ferc.gov.

Magalie R. Salas,
Secretary.

[FR Doc. E5-2628 Filed 5-24-05; 8:45 am]

BILLING CODE 6717-01-P